GENERAL SERVICES ADMINISTRATION

41 CFR Part 102-37

[FMR Amendment B-2]

RIN 3090-AH74

Federal Management Regulation; Notification of Allocation of Surplus Personal Property for Donation

AGENCY: Office of Governmentwide Policy, General Services Administration (GSA).

ACTION: Final rule.

SUMMARY: The General Services Administration (GSA) is amending the Federal Management Regulation (FMR) to clarify the period of time GSA normally requires to allocate surplus personal property for donation. This final rule will allow holding agencies to move property to sale if they have not received notification of allocation by day 6 after the surplus release date.

DATES: Effective Date: December 26, 2002.

FOR FURTHER INFORMATION CONTACT: Mr. Robert Holcombe, Director, Personal Property Management Policy Division (MTP), General Services Administration, at (202) 501-3828. For information pertaining to status or publication schedules, contact the Regulatory Secretariat, Room 4035, GS Building, Washington DC, 20405, (202) 501-4755. Please cite FMR Amendment B-2.

SUPPLEMENTARY INFORMATION:

A. Executive Order 12866

GSA has determined that this final rule is not a significant rule for the purposes of Executive Order 12866 of September 30, 1993.

B. Regulatory Flexibility Act

A Regulatory Flexibility Analysis is not required under the Regulatory Flexibility Act, 5 U.S.C. 601, et seq., because there is no requirement that this final rule be published in the Federal Register for notice and comment.

C. Paperwork Reduction Act

The Paperwork Reduction Act does not apply because the changes to the FMR do not impose information collection requirements that require the approval of the Office of Management and Budget under 44 U.S.C. 3501, et seq.

D. Small Business Regulatory Enforcement Fairness Act

This final rule is exempt from Congressional review prescribed under 5 U.S.C. 801 since it relates solely to agency management and personnel.

List of Subjects in 41 CFR Part 102-37

Government property management, Homeless, Reporting and recordkeeping requirements, Surplus Government property.

Dated: November 4, 2002.
Stephen A. Perry,
Administrator of General Services.

For the reasons set forth in the preamble, GSA amends 41 CFR part 102-37 as follows:

PART 102-37—DONATION OF SURPLUS PERSONAL PROPERTY

1. The authority citation for 41 CFR part 102-37 is revised to read as follows:

Authority: 40 U.S.C. 549 and 121(c).

2. Amend § 102-37.110 by revising paragraph (c) to read as follows:

§ 102-37.110 What are a holding agency's responsibilities in the donation of surplus property?

* * * * *

(c) Set aside or hold surplus property from further disposal upon notification of a pending transfer for donation; (If GSA does not notify you of a pending transfer within 5 calendar days following the surplus release date, you may proceed with the sale or other authorized disposal of the property.)

* * * * *

[FR Doc. 02-32605 Filed 12-24-02; 8:45 am]

BILLING CODE 6820-14-P